DEPARTMENT OF ENERGY

Federal Energy Regulatory Commission

[Docket No. RP00-368-000]

Tuscarora Gas Transmission Company; Notice of Tariff Filing

July 7, 2000.

Take notice that on June 30, 2000, Tuscarora Gas Transmission Company (Tuscarora) tendered for filing as part of its FERC Gas Tariff, Original Volume No. 1, the following tariff sheets to become effective August 1, 2000:

Second Revised Sheet No. 70

First Revised Sheet No. 74

Second Revised Sheet No. 78

Second Revised Sheet No. 79

Tuscarora asserts that the purpose of this filing is to comply with Order No. 637, issued on February 9, 2000 in Docket Nos. RM98-10-000 and RM98-12-000 (Order No. 637). Order No. 637 provides for a waiver of the rate ceiling for short-term capacity release transactions (with a term of less than one year) until September 30, 2002. Tucarora has revised Section 26 of the General Terms and Conditions of its tariff to remove the price cap for short-term capacity release transactions of less than one year.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17704 Filed 7-12-00; 8:45 am]

BILLING CODE 6717-01-M